DEPARTMENT OF ENERGY

Secretary of Energy Advisory Board; Notice of Open Meeting.

AGENCY: Department of Energy.

SUMMARY: This notice announces a meeting of the Secretary of Energy Advisory Board's Panel on Emerging Alternative Technologies for the Treatment of Mixed Waste. The Federal Advisory Committee Act (Public Law 92-463, 86 Stat. 770), requires that agencies publish these notices in the Federal Register to allow for public participation. Name: Secretary of Energy Advisory Board—Panel on Emerging Alternative Technologies for the Treatment of Mixed Waste.

DATES: August 22-24, 2000.

ADDRESSES:

Idaho Falls, Idaho: Shilo Inn, 780 Lindsay Boulevard, Idaho Falls, Idaho

Jackson, Wyoming: Snow King Resort, 400 East Snow King Avenue, Jackson, Wyoming

FOR FURTHER INFORMATION CONTACT: Mary Louise Wagner, Executive Director, or Francesca McCann, Staff Director, Office of the Secretary of Energy Advisory Board (AB-1), U.S. Department of Energy, 1000 Independence Avenue, SW, Washington, D.C. 20585, (202) 586-7092 or (202) 586-6279 (fax).

SUPPLEMENTARY INFORMATION: The purpose of the Secretary of Energy Advisory Board's Panel on Emerging Alternative Technologies for the Treatment of Mixed Waste is to provide independent external advice and recommendations to the Secretary of Energy Advisory Board on emerging technological alternatives to incineration for the treatment of mixed waste which the Department of Energy should pursue. The Panel will focus on the evaluation of emerging non-incineration technologies for the treatment of low-level, alpha low-level and transuranic wastes containing polychlorinated biphenyls (PCBs) and other hazardous constituents. Waste categories to be addressed include inorganic homogeneous solids, organic homogeneous solids, and soils. The Panel will also evaluate whether the emerging non-incineration technologies could be implemented in a manner that would allow the Department of Energy to comply with all legal requirements, including those contained in the Settlement Agreement and Consent Order signed by the State of Idaho, Department of Energy, and the U.S. Navy in October 1995.

Tentative Agenda

The agenda for the August 22-24 meeting has not been finalized. However, the meeting will include a series of briefings and discussions on alternative technologies for the treatment of mixed wastes, an inventory of wastes to be treated, an overview of waste characteristics and panel discussions. Members of the Public wishing to comment on issues before the Panel on Emerging Alternative Technologies for the Treatment of Mixed Waste will have an opportunity to address the Panel during the scheduled public comment periods. The final agenda will be available at the meeting.

Tentative Agenda
Tuesday, August 22—Idaho Falls
9:00 am-9:15 am | Welcome Comments/Business Details | Ralph Cavanagh, Chairman; Beverly Cook, Manager DOE-ID.
9:15 am-10:30 am | Advanced Mixed Waste Treatment Project History, Virtual Tour, Inventory of Characteristics, Processes and Risk Assessment Results | M. Bonkoski, DOE-ID .
10:30 am-10:40 am | Break
10:40 am-11:10 am | Relevant Fed. Laws and Regulations | J. Smith, EPA HQ.
11:10 am-11:40 am | Relevant State Laws and Regulations | S. Allred, Environmental Quality for Idaho.
11:40 am-12:30 pm | Waste Isolation Pilot Plant Waste Acceptance Criteria & Shipping Office Requirements | K. Watson, Carlsbad Area Office.
12:30 pm-1:30 pm | Lunch Break
1:30 pm-4:20 pm | Alternative Technologies Overview (Thermal, Chemical, Separation Gaseous, and Biological Capabilities) | Multiple Presenters.
4:20 pm-4:30 pm | Break
4:30 pm-5:30 pm | Public Comment (Idaho Falls) | R. Cavanagh.
5:30 pm-6:30 pm | Dinner Break
6:30 pm-7:30 pm | DOE Summary of Technologies | W. Ocwa, DOE-ID.
7:30 pm-8:30 pm | Public Comment (Idaho Falls) | R. Cavanagh.
Wednesday, August 23—Idaho Falls
9:00 am-10:00 am | Overview and Application to Other Waste Types | W. Owca, DOE-ID, V. Maio, Bechtel.
10:00 am-10:30 am | Observations & DOE/EPA, Memorandum of Understanding | R. Seeker, Energy and Environmental Research Corporation, Schwinkendorf, Bechtel.
10:30 am-11:30 am | Optional Independent Presenters and Panel Discussion | Multiple Presenters.
11:30 am-12:30 pm | Lunch Break
12:30 pm-3:00 pm—Travel to Jackson, Wyoming
3:30 pm-4:30 pm | Introduction and Overview | M. Bonkoski, DOE-ID.
4:30 pm-5:30 pm | Technology Summary, R&D Needs | W. Owca, DOE-ID.
5:30 pm-7:00 pm | Dinner Break
7:00 pm-8:30 pm | Public Comment (Jackson) | R. Cavanagh.
Thursday, August 24—Jackson
9:00 am-10:30 am | Additional Presentations | Independent Presenters.
10:30 am-11:00 am | Public Comment (Jackson) | R. Cavanagh.
11:00 am-12:00 pm | Summary and Conclusion/Action items/Work plan for Next 4 Months | R. Cavanagh.
12:00 pm | Adjourn

Public Participation .

In keeping with procedures, members of the public are welcome to observe the business of the Panel on Emerging Alternative Technologies for the Treatment of Mixed Waste and submit written comments or comment during the scheduled public comment periods.

During its meetings in Idaho Falls, Idaho and Jackson, Wyoming, the Panel welcomes public comment. Most valuable to the Panel would be specific comments on alternative technologies for the treatment of mixed wastes. In addition, the Panel will readily hear public views on the issue. Members of the public will be heard in the order in which they sign up at the beginning of the meeting. The Panel will make every effort to hear the views of all interested parties. The Chairman of the Panel is empowered to conduct the meeting in a fashion that will, in the Chairman's judgment, facilitate the orderly conduct of business. You may submit written comments to Mary Louise Wagner, Executive Director, Secretary of Energy Advisory Board, AB-1, U.S. Department of Energy, 1000 Independence Avenue, SW, Washington, D.C. 20585. This notice is being published less than 15 days before the date of the meeting due to the late resolution of programmatic issues.

Minutes

A copy of the minutes and a transcript of the meeting will be made available for public review and copying approximately 30 days following the meeting at the Freedom of Information Public Reading Room, 1E-190 Forrestal Building, 1000 Independence Avenue, SW, Washington, D.C., between 9 a.m. and 4 p.m., Monday through Friday except Federal holidays. Further information on the Secretary of Energy Advisory Board and its subcommittees may be found at the Board's web site, located at http://www.hr.doe.gov/seab.

Issued at Washington, D.C., on August 8, 2000.
James N. Solit,
Advisory Committee Management Officer.

[FR Doc. 00-20562 Filed 8-11-00; 8:45 am]

BILLING CODE 6450-01-P